GENERAL SERVICES ADMINISTRATION

48 CFR Part 6101

[GSA BCA Amendment 2009-01; BCA Case 2009-61-1; Docket Number 2009-0016, Sequence 1]

RIN 3090-AI99

Civilian Board of Contract Appeals; BCA Case 2009-61-1; Rules of Procedure of the Civilian Board of Contract Appeals

AGENCIES: Civilian Board of Contract Appeals, General Services Administration (GSA)

ACTION: Final rule.

SUMMARY: This document provides two revisions to the rules governing proceedings before the Civilian Board of Contract Appeals (Board), published in the Federal Register on May 12, 2008. First, the Board is correcting the heading for Chapter 61. Upon publication of the rules in the Code of Federal Regulations, the heading for Chapter 61 was erroneously changed. This document corrects that error. In addition, a sentence that became surplusage upon issuance of the rules is being removed.

DATES: Effective Date: December 16, 2009.

FOR FURTHER INFORMATION CONTACT: Margaret S. Pfunder, Chief Counsel, Civilian Board of Contract Appeals, telephone (202) 606-8800, e-mail address Margaret.Pfunder@gsa.gov for clarification of content. For information pertaining to status or publication schedules, contact the Regulatory Secretariat at (202) 501-4755. Please cite BCA Case 2009-61-1.

SUPPLEMENTARY INFORMATION:

A. Background

The Civilian Board of Contract Appeals was established within the General Services Administration (GSA) by section 847 of the National Defense Authorization Act for Fiscal Year 2006, Pub. L. 109-163. Effective January 6, 2007, the boards of contract appeals that existed at the General Services Administration and the Departments of Agriculture, Energy, Housing and Urban Development, Interior, Labor, Transportation, and Veterans Affairs were terminated, and their cases were transferred to the new Civilian Board of Contract Appeals. The title of Chapter 61 was erroneously changed upon publication of these rules in the Code of Federal Regulations to read “General Services Administration Board of Contract Appeals”. This document corrects that error. In addition, section 6101.1 is amended by removing the second sentence from paragraph (a). That sentence states, “These rules will remain in effect until the Board issues final rules of procedure or June 30, 2008, whichever occurs earlier.” Upon issuance of the final rules, that sentence became surplusage, and it is therefore now removed.

B. Regulatory Flexibility Act

The General Services Administration certifies that this final rule will not have a significant economic impact on a substantial number of small entities within the meaning of the Regulatory Flexibility Act, 5 U.S.C. 601, et seq., because the rule does not impose any additional costs on large or small businesses.

C. Paperwork Reduction Act

The Paperwork Reduction Act does not apply because the changes do not impose recordkeeping or information collection requirements, or otherwise collect information from offerors, contractors, or members of the public that require approval of the Office of Management and Budget under 44 U.S.C. 3501, et seq.

List of Subjects in 48 CFR Part 6101

Administrative practice and procedure, Agriculture, Freight forwarders, Government procurement, Travel and relocation expenses.

Dated: October 21, 2009.
Stephen M. Daniels,
Chairman, Civilian Board of Contract Appeals, General Services Administration.

Therefore, GSA amends 48 CFR Chapter 61 as set forth below:

CHAPTER 61—CIVILIAN BOARD OF CONTRACT APPEALS, GENERAL SERVICES ADMINISTRATION

1. The authority citation for 48 CFR Part 6101 continues to read as follows:

Authority: 41 U.S.C. 601-613.

2. Amend Chapter 61 by revising the Chapter heading as set forth above.

PART 6101—CONTRACT DISPUTE CASES

6101.1 [Amended]

3. Amend section 6101.1 by removing the second sentence from paragraph (a).

[FR Doc. E9-29838 Filed 12-15-09; 8:45 am]

BILLING CODE 6820-AL-P